DEPARTMENT OF HEALTH AND HUMAN SERVICES

Indian Health Service

National Indian Health Outreach and Education II Program; Correction

AGENCY: Indian Health Service, HHS.

ACTION: Notice; correction.

SUMMARY: The Indian Health Service published a document in the Federal Register on July 15, 2016, for the Fiscal Year 2016 National Indian Health Outreach and Education II Program. The notice contained an incorrect Announcement Number.

FOR FURTHER INFORMATION CONTACT: Ms. Michelle EagleHawk, Deputy Director, Office of Direct Service and Contracting Tribes, 5600 Fishers Lane, Mail Stop: 8E17, Rockville, Maryland 20857, Telephone: (301) 443-1104, email: Michelle.EagleHawk@ihs.gov. (This is not a toll-free number.)

Correction

In the Federal Register of July 15, 2016, FR Doc. 2016-16819, on page 46100, in the second column at the top of the page, the correct Announcement Number should read as follows:

Announcement Number: HHS-2016-IHS-NIHOE-2-BH-HIV-AIDS-0001.

Dated: August 4, 2016.
Elizabeth A. Fowler,
Deputy Director for Management Operations, Indian Health Service.

[FR Doc. 2016-19597 Filed 8-16-16; 8:45 am]

BILLING CODE 4165-16-P